POSTAL SERVICE

39 CFR Part 111

New Mailing Standards for Domestic Mailing Services Products

AGENCY: Postal Service ™.

ACTION: Final rule.

SUMMARY: On October 10, 2018, the Postal Service filed a notice of mailing services price adjustments with the Postal Regulatory Commission (PRC), effective January 27, 2019. This final rule contains the revisions to Mailing Standards of the United States Postal Service, Domestic Mail Manual (DMM®) to implement the changes coincident with the price adjustments and other minor DMM changes.

DATES: Effective: January 27, 2019.

FOR FURTHER INFORMATION CONTACT: Jacqueline Erwin at (202) 268-2158.

SUPPLEMENTARY INFORMATION: On November 13, 2018, the PRC found that the price adjustments proposed by the Postal Service may take effect as planned. The price adjustments and DMM revisions are scheduled to become effective on January 27, 2019. Final prices are available under Docket No. R2019-1 (Order No. 4875) on the Postal Regulatory Commission's website at www.prc.gov.

Comments on Proposed Changes and USPS Responses

The Postal Service did not receive any formal comments on the October 17, 2018 proposed rule.

The Postal Service's final rule includes the following changes:

Periodicals Address Corrections for Alternate Addressed Nonsubscriber-Nonrequester Copies

The Postal Service will introduce a specifically tailored Periodicals Service Type ID (STID) for publishers to include in the Intelligent Mail® barcode (IMb®) along with authorized alternative addressing formats. Publishers will no longer receive address-related notices if the address is vacant or not deliverable.

Correcting Business Reply Mail®/Qualified Business Reply Mail ™ (BRM/QBRM ™) Postage Anomaly

The Postal Service will correct the BRM/QBRM postage anomaly by applying the retail “stamped” letter price to basic and high volume BRM. To offset the postage increase, basic and high volume BRM per piece fees have decreased.

Picture Permit Imprint Indicia

The Postal Service will eliminate the Full-service requirement on commercial mailings of First-Class Mail® or USPS Marketing Mail® postcards, letters, or flats using picture permit imprint indicia.

Small Parcel Forwarding Fee

The Postal Service will add a small parcel forwarding fee for USPS Marketing Mail parcels, endorsed “Change Service Requested” under “Option 2” (ACS only), that are forwarded due to an active change-of-address.

Overweight Item Charge

The Postal Service will introduce a charge for items identified in the postal network that exceed the 70 pound weight limit for Postal Service products, and are therefore nonmailable. Overweight items identified in the postal network will be assessed a $100 charge payable before release of the item, unless the item is discovered at the same facility where it was entered.

The Postal Service adopts the following changes to Mailing Standards of the United States Postal Service, Domestic Mail Manual (DMM), incorporated by reference in the Code of Federal Regulations. See 39 CFR 111.1.

* * * * *

List of Subjects in 39 CFR Part 111

Administrative practice and procedure, Postal Service.

Accordingly, 39 CFR part 111 is amended as follows:

PART 111—[AMENDED.]

1. The authority citation for part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

500 Additional Mailing Services

* * * * *

505 Return Services

1.0 Business Reply Mail (BRM)

1.1 BRM Postage and Fees

1.1.1 Basic BRM

[Revise the first sentence of the introductory text in 1.1.1 to read as follows:]

For basic BRM, a permit holder is required to pay an annual permit fee as provided under 1.2 and a per piece fee under 1.1.7 in addition to the applicable Retail First-Class Mail (stamped letters), First-Class Package Service—Retail, or Priority Mail postage for each returned piece.***

* * * * *

1.1.3 Basic Qualified BRM (QBRM)

[Revise the first sentence of the introductory text in 1.1.3 to read as follows:]

For basic qualified BRM, a permit holder is required to pay an account maintenance fee under 1.1.8, and a per piece fee under 1.1.7 in addition to the applicable retail letter or card First-Class Mail (stamped letters) postage for each returned piece.***

* * * * *

507 Mailer Services

1.0 Treatment of Mail

* * * * *

1.5 Treatment for Ancillary Services by Class of Mail

* * * * *

1.5.2 Periodicals

Undeliverable-as-addressed (UAA) Periodicals publications (including publications pending Periodicals authorization) are treated as described in Exhibit 1.5.2, with these additional conditions:

* * * * *

[Revise the text in items 1.5.2b and 1.5.2c to read as follows:]

b. Publications with an alternative addressing format under 602.3.0 are delivered to the address when possible. Forwarding service is not provided for such mail.

c. Address correction service is mandatory for all Periodicals publications, except when publishers use authorized alternative addressing and an IMb with proper STID. An address correction service fee must be paid for each notice issued.

* * * * *

1.5.3 USPS Marketing Mail and Parcel Select Lightweight

* * * * *

Exhibit 1.5.3 Treatment of Undeliverable USPS Marketing Mail and Parcel Select Lightweight

Mailer Endorsement | USPS Treatment of UAA pieces

* * * * *

“Change Service Requested” 1, 4

* * * * *

[Revise the parenthetical for “Option 2” to read as follows:]

(Available via ACS only; for USPS Marketing Mail (all shapes) and Parcel Select Lightweight)

* * * * *

If change-of-address order on file:

[Revise the text under “If change-of-address order on file:” for “Months 1 through 12” to read as follows:]

Months 1 through 12: Piece forwarded; postage due charged to the mailer at applicable Forwarding Fee based on the piece shape for USPS Marketing Mail or Parcel Select Lightweight; separate notice of new address provided (electronic ACS fee charged).

* * * * *

600 Basic Standards For All Mailing Services

* * * * *

602 Addressing

* * * * *

3.0 Use of Alternative Addressing

3.1 General Information

* * * * *

3.1.3 Treatment

[Revise the third sentence of the introductory text in 3.1.3 to read as follows:]

***Periodicals publishers are notified when a mailpiece with an occupant or exceptional address format is undeliverable for solely address-related reasons, (except publishers using an IMb with proper STID on non-subscriber or non-requester copies under 207.7.0.***

* * * * *

604 Postage Payment Methods and Refunds

* * * * *

5.0 Permit Imprint (Indicia)

* * * * *

5.4 Picture Permit Imprint Indicia

5.4.1 Description

[Revise the third sentence of 5.4.1 to read as follows:]

***Picture permit imprints may be used to pay postage and extra service fees on commercial mailings of First-Class Mail or USPS Marketing Mail postcards, letters, or flats.

* * * * *

5.4.5 Picture Permit Imprint Indicia Format

As options to the basic format under 5.3.11 and if all other applicable standards in 5.0 are met, permit imprint indicia may be prepared in picture permit imprint format subject to these conditions:

* * * * *

[Delete 5.4.5f in its entirety and renumber current 5.4.5g through 5.4.5k as new 5.4.5f through 5.4.5j.]

* * * * *

Notice 123 (Price List)

[Revise prices as applicable.]

* * * * *

We will publish an appropriate amendment to 39 CFR part 111 to reflect these changes.

Brittany M. Johnson,
Attorney, Federal Compliance.

[FR Doc. 2018-27412 Filed 12-18-18; 8:45 am]

BILLING CODE 7710-12-P